NATIONAL FOUNDATION ON THE ARTS AND THE HUMANITIES

Sunshine Act Meeting; Meeting of the National Museum Services Board

AGENCY: Institute of Museum and Library Services.

ACTION: Notice of meeting.

SUMMARY: This notice sets forth the agenda of a forthcoming meeting of the National Museum Services Board. This notice also describes the function of the board. Notice of this meeting is required under the Sunshine in Government Act and regulations of the Institute of Museum and Library Services, 45 CFR 1180.84.

TIME/DATES: 10:30 p.m.-12:30 p.m. on Friday, June 28, 2002.

STATUS: Open.

ADDRESSES: The Hotel Washington, 515 15th Street, NW., Washington, DC. (202) 638-5900.

FOR FURTHER INFORMATION CONTACT: Elizabeth Lyons, Special Assistant to the Director, Institute of Museum and Library Services, 1100 Pennsylvania Avenue, NW, Room 510, Washington, DC 20506. (202) 606-4649.

SUPPLEMENTARY INFORMATION: The National Museum Services Board is established under the Museum Services Act, Title II of the Arts, Humanities, and Cultural Affairs Act of 1976, Public Law 94-462. The Board has responsibility for the general policies with respect to the owners, duties, and authorities vested in the Institute under the Museum Services Act.

The meeting on Friday, June 28, 2002 will be open to the public. If you need special accommodations due to a disability, please contact: Institute of Museum and Library Services, 1100 Pennsylvania Avenue, NW, Washington, DC 20506—(202) 606-8536—TDD (202) 606-8636 at least seven (7) days prior to the meeting date.

Agenda

84th Meeting of the National Museum Services Board at The Hotel Washington, 515 15th Street, NW, Washington, DC. The Federal Room on Friday, June 28, 2002; 10:30 am-12:30 pm (Open Meeting)

I. Chairman's Welcome

II. Approval of Minutes from the 83rd NMSB Meeting

III. Director's Report

IV. Staff Reports

(a) Office of Management and Budget

(b) Office of Public and Legislative Affairs

(c) Office of Technology and Research

(d) Office of Museum Services

(e) Office of Library Services

V. 21st Century Leaner Initiative

VI. September 11, 2002 Update

Dated: June 12, 2002.
Teresa LaHaie,
Administrative Officer, National Foundation on the Arts and Humanities, Institute of Museum and Library Services.

[FR Doc. 02-15271 Filed 6-13-02; 8:45 am]

BILLING CODE 7036-01-M